FEDERAL COMMUNICATIONS COMMISSION

[DA04-1041]

NeuStar, Inc. Request To Allow Certain Transactions Without Prior Commission Approval and To Transfer Ownership

AGENCY: Federal Communications Commission.

ACTION: Notice; solicitation of comments.

SUMMARY: Comment is sought on NeuStar's request to allow certain transactions without prior commission approval and to transfer ownership. We seek comment on the potential impact on NeuStar's ability to perform its numbering administration responsibilities in a neutral manner. We also seek specific comment on the potential impact of an initial public offering (IPO) on NeuStar's ability to maintain its neutrality.

DATES: Comments are due on or before May 12, 2004. Reply comments are due on or before May 24, 2004.

ADDRESSES: Federal Communications Commission, 445 Twelfth Street, SW., Washington, DC 20554. See Supplementary Information for further filing instructions.

FOR FURTHER INFORMATION CONTACT: Pam Slipakoff, Attorney, Wireline Competition Bureau, Telecommunications Access Policy Division, (202) 418-7400, TTY (202) 418-0484.

SUPPLEMENTARY INFORMATION: This is a summary of the Commission's public notice, CC Docket No. 92-237, DA 04-1041, released April 20, 2004. On April 15, 2004, NeuStar, Inc. (NeuStar), the current North American Numbering Plan Administrator (NANPA), national Pooling Administrator (PA) and Local Number Portability Administrator, filed a letter with the Federal Communications Commission (Commission) seeking a ruling that it need not seek prior Commission neutrality review and approval for certain types of transactions that it believes does not affect its ability to be a neutral administrator for the North American Numbering Plan (NANP). In addition, in anticipation of a potential IPO, NeuStar seeks Commission approval for a transfer of control of the company from the current majority shareholder, a voting trust, to a broad shareholder base.

Specifically, NeuStar contends that the types of changes that should not be subject to prior Commission approval fall into the following three general categories: (1) Corporate changes that do not increase the rights of any entity affiliated with a telecommunications service provider (TSP); (2) transactions that do not increase any interests of a TSP or a TSP affiliate in NeuStar; and (3) transactions that permit NeuStar to become a public company (including an IPO) and subsequent sales of NeuStar equity, subject to several limitations on TSP ownership. In addition, NeuStar notes that prior agency approval would continue to be required for all other changes within the existing scope of the prior approval requirement. NeuStar also notes that all other oversight mechanisms would remain in place.

Pursuant to applicable procedures set forth in §§ 1.415 and 1.419 of the Commission's rules, interested parties may file comments on or before May 12, 2004, and reply comments on or before May 24, 2004. All filings should refer to CC Docket No. 92-237. Comments may be filed using the Commission's Electronic Comment Filing System (ECFS) or by filing paper copies. See Electronic Filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial overnight mail (other then U.S. Postal Service Express Mail and Priority Mail) must be sent to 9300 East Hampton Drive, Capitol Heights, MD 20743. U.S. Postal Service first-class mail, Express Mail, and Priority Mail should be addressed to 445 Twelfh Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 Twelfth Street, SW., Room 5-B540, Washington, DC 20554. In addition, commenters must send diskette copies to the Commission's copy contractor, Qualex International, Portals II, 445 Twelfth Street, SW., Room CY-B402, Washington, DC 20054.

Pursuant to § 1.1206 of the Commission's rules, 47 CFR 1.1206, this proceeding will be conducted as a permit-but-disclose proceeding in which ex parte communications are permitted subject to disclosure.

Federal Communications Commission.
Cheryl L. Callahan,
Assistant Chief, Wireline Competition Bureau, Telecommunications Access Policy Division.

[FR Doc. 04-10703 Filed 5-7-04; 10:12 am]

BILLING CODE 6712-01-P